DEPARTMENT OF THE INTERIOR

National Park Service

[NPS-WASO-NAGPRA-NPS0028308; PPWOCRADN0-PCU00RP14.R50000]

Notice of Inventory Completion: Department of Anthropology, University of Alaska Anchorage, Anchorage, AK

AGENCY: National Park Service, Interior.

ACTION: Notice.

SUMMARY: The Department of Anthropology, University of Alaska Anchorage has completed an inventory of human remains, in consultation with the appropriate Indian Tribes or Native Hawaiian organizations, and has determined that there is a cultural affiliation between the human remains and present-day Indian Tribes or Native Hawaiian organizations. Lineal descendants or representatives of any Indian Tribe or Native Hawaiian organization not identified in this notice that wish to request transfer of control of these human remains should submit a written request to the Department of Anthropology, University of Alaska Anchorage. If no additional requestors come forward, transfer of control of the human remains to the lineal descendants, Indian Tribes, or Native Hawaiian organizations stated in this notice may proceed.

DATES: Lineal descendants or representatives of any Indian Tribe or Native Hawaiian organization not identified in this notice that wish to request transfer of control of these human remains should submit a written request with information in support of the request to the Department of Anthropology, University of Alaska Anchorage at the address in this notice by August 19, 2019.

ADDRESSES: Dr. John Stalvey, Interim Provost, University of Alaska Anchorage, 3211 Providence Drive, Anchorage, AK 99508, telephone (907) 786-1050, email Jstalvey@alaska.edu.

SUPPLEMENTARY INFORMATION: Notice is here given in accordance with the Native American Graves Protection and Repatriation Act (NAGPRA), 25 U.S.C. 3003, of the completion of an inventory of human remains under the control of the Department of Anthropology, University of Alaska Anchorage, Anchorage, AK. The human remains were removed from Amook Island, Uyak Bay, and Larsen Bay (KAR-029), Kodiak Island, Kodiak Island Borough, AK.

This notice is published as part of the National Park Service's administrative responsibilities under NAGPRA, 25 U.S.C. 3003(d)(3). The determinations in this notice are the sole responsibility of the museum, institution, or Federal agency that has control of the Alaska Native human remains. The National Park Service is not responsible for the determinations in this notice.

Consultation

A detailed assessment of the human remains was made by the Department of Anthropology, University of Alaska Anchorage professional staff in consultation with representatives of the Native Village of Larsen Bay.

History and Description of the Remains

In 1980, human remains representing, at minimum, one individual were removed from the tip of Amook (“Amok”) Island, Uyak Bay, in northwestern Kodiak Island, AK, by an unknown individual, and were donated to the Department of Anthropology Laboratory. No known individuals were identified. No associated funerary objects are present.

The human remains are associated with either the Kachemak tradition or the late prehistoric Koniag occupation of Kodiak. The Alutiiq (Sugpiaq) people of the Kodiak Island archipelago are the only present-day descendants of the people who occupied the region before European Contact. They still live within their traditional region.

In 1987, human remains representing, at minimum, four individuals were removed from Larsen Bay (KAR-029) in Kodiak Island Borough, AK. Four individuals (two adults and two juveniles) were excavated from two locations at the site. Two of them are identified as males. The human remains were excavated by Bureau of Indian Affairs archeologists with the support and approval of both the Kodiak Area Native Association and the land owner. The site has a Late Kachemak tradition, a transitional Koniag, and a Koniag phase occupation. Seven radiocarbon dates range between 1310±70 and 450±70 BP. Although the recovered skeletal remains cannot be unambiguously sorted by phase, certain characteristics such as scattered bones, the absence of skulls, and burned bone are more typical of the late Kachemak tradition than the Koniag phase. No known individuals were identified. No associated funerary objects are present.

The Alutiiq (Sugpiaq) people of Kodiak Island archipelago are the only present-day descendants of the people who lived in the region before European Contact. They still live within their traditional region.

Determinations Made by the Department of Anthropology, University of Alaska Anchorage

Officials of the Department of Anthropology, University of Alaska Anchorage have determined that:

• Pursuant to 25 U.S.C. 3001(9), the human remains described in this notice represent the physical remains of five individual of Alaska Native ancestry.

• Pursuant to 25 U.S.C. 3001(2), there is a relationship of shared group identity that can be reasonably traced between the Alaska Native human remains and the Native Village of Larsen Bay.

Additional Requestors and Disposition

Lineal descendants or representatives of any Indian Tribe or Native Hawaiian organization not identified in this notice that wish to request transfer of control of these human remains should submit a written request with information in support of the request to Dr. John Stalvey, Interim Provost, University of Alaska Anchorage, 3211 Providence Drive, Anchorage, AK 99508, telephone (907) 786-1050, email Jstalvey@alaska.edu, by August 19, 2019. After that date, if no additional requestors have come forward, transfer of control of the human remains to the Native Village of Larsen Bay may proceed.

The Department of Anthropology, University of Alaska Anchorage is responsible for notifying the Native Village of Larsen Bay that this notice has been published.

Dated: June 25, 2019.
Melanie O'Brien,
Manager, National NAGPRA Program.

[FR Doc. 2019-15435 Filed 7-18-19; 8:45 am]

BILLING CODE 4312-52-P